JUDICIAL CONFERENCE OF THE UNITED STATES

Hearings of the Judicial Conference Advisory Committees on Rules of Appellate, Bankruptcy, Civil, and Criminal Procedure and the Federal Rules of Evidence

AGENCY: Advisory Committees on Rules of Appellate, Bankruptcy, Civil, and Criminal Procedure, and the Federal Rules of Evidence, Judicial Conference of the United States.

ACTION: Notice of Proposed Amendments and Open Hearings.

SUMMARY: The Advisory Committees on Rules of Appellate, Bankruptcy, Civil, and Criminal Procedure, and Rules of Evidence have proposed amendments to the following rules:

Appellate Rules: 13, 14, 24, 28, and 28.1, and Form 4;

Bankruptcy Rules: 1007, 3007, 5009, 9006, 9013, and 9014, and Official Forms 6C, 7, 22A, and 22C.

Civil Rules: 37 and 45.

Criminal Rules: 11, 12, and 34.

Evidence Rule: 803.

The text of the proposed amendments and the accompanying committee notes can be found on the United States Federal courts' rulemaking Web site at http://www.uscourts.gov/RulesAndPolicies/FederalRulemaking/Overview.aspx.

The Judicial Conference Committee on Rules of Practice and Procedure submits these proposed amendments for public comment. All written comments and suggestions with respect to the proposed amendments must be received by the Secretary no later than February 15, 2012. They can be sent to any of the following: by mail to Peter G. McCabe, Secretary, Committee on Rules of Practice and Procedure of the Judicial Conference of the United States, Thurgood Marshall Federal Judiciary Building, Washington, DC 20544; by electronic mail to <Rules_Comments@ao.uscourts.gov>; or by facsimile to Peter G. McCabe at (202) 502-1766. In accordance with established procedures, all comments submitted are available for public inspection.

Public hearings are scheduled to be held on the amendments to:

• Appellate Rules in Columbus, Ohio, on January 31, 2012, and in Washington, DC, on February 3, 2012;

• Bankruptcy Rules in Washington, DC, on January 13, 2012, and in Chicago, Illinois, on February 10, 2012;

• Civil Rules in Washington, DC, on November 7, 2011, in Phoenix, Arizona, on January 4, 2012, and in Chicago, Illinois, on January 27, 2012;

• Criminal Rules in Phoenix, Arizona, on January 6, 2012, and in Washington, DC, on February 6, 2012; and

• Evidence Rules in Phoenix, Arizona, on January 7, 2012, and in Washington, DC, on January 17, 2012.

Those wishing to testify should contact the Committee Secretary at the above address in writing at least 30 days before the hearing.

FOR FURTHER INFORMATION CONTACT: Peter G. McCabe, Secretary, Committee on Rules of Practice and Procedure of the Judicial Conference of the United States, Thurgood Marshall Federal Judiciary Building, Washington, DC 20544, Telephone (202) 502-1820.

Dated: August 16, 2011.
Peter G. McCabe,
Secretary, Committee on Rules of Practice and Procedure.

[FR Doc. 2011-21332 Filed 8-19-11; 8:45 am]

BILLING CODE 2210-55-P